NATIONAL TRANSPORTATION SAFETY BOARD

Sunshine Act Meeting; Notice

TIME AND DATE: 9:30 a.m., Tuesday, June 27, 2000.

PLACE: NTSB Board Room, 429 L'Enfant Plaza, SW., Washington, DC 20594.

STATUS: Open to the Public.

MATTERS TO BE CONSIDERED:

7266 Safety Report: Emergency Evacuation of Commercial Airplanes.

7256 Special Investigation Report: Actions to Reduce Fatalities, Injuries, and Crashes involving the Hard Core Drinking Driver.

NEWS MEDIA CONTACT: Telephone: (202) 314-6100.

Individuals requesting specific accommodation should contact Mrs. Barbara Bush at (202) 314-6220 by Friday, June 23, 2000.

FOR MORE INFORMATION CONTACT: Rhonda Underwood (202) 314-6065.

Dated: June 16, 2000.
Rhonda Underwood,
Federal Register Liaison Officer.

[FR Doc. 00-15699 Filed 6-16-00; 3:01 pm]

BILLING CODE 7533-01-M